NATIONAL SCIENCE FOUNDATION

Sunshine Act Meetings

Federal Register CITATION OF PREVIOUS ANNOUNCEMENT: This meeting was noticed on August 25, 2022, at 87 FR 52419.

PREVIOUSLY ANNOUNCED TIME AND DATE OF THE MEETING: Monday, September 26, 2022, from 5:00-5:30 p.m. EDT.

CHANGES IN THE MEETING: This meeting is cancelled.

CONTACT PERSON FOR MORE INFORMATION: Point of contact for this meeting is: Chris Blair, cblair@nsf.gov, 703/292-7000.

Chris Blair,
Executive Assistant to the National Science Board Office.

[FR Doc. 2022-21035 Filed 9-23-22; 4:15 pm]

BILLING CODE 7555-01-P